ENVIRONMENTAL PROTECTION AGENCY

40 CFR Part 52

[EPA-R04-OAR-2010-0604-201046; FRL-9212-2]

Approval and Promulgation of Air Quality Implementation Plans; Atlanta, GA; Notice of Completeness Determination for the Purpose of Stopping Sanctions Clock

AGENCY: Environmental Protection Agency (EPA).

ACTION: Notice of Letter to Governor Regarding Completeness and Stopping of Sanctions Clock.

SUMMARY: EPA is now giving notice of an action that EPA has already taken to find a State Implementation Plan (SIP) revision complete and stop the sanctions clocks associated with the Atlanta, Georgia, 1997 fine particulate matter (PM2.5) national ambient air quality standards (NAAQS) nonattainment area (hereafter referred to as the “Atlanta Area”). Pursuant to the Clean Air Act (CAA) and its implementing regulations, EPA has made an affirmative determination of completeness for the attainment demonstration, reasonably available control measures and reasonably available control technology, annual emissions reductions to ensure reasonable further progress, and contingency measures (hereafter referred to as “nonattainment area submittals”) submitted by the State of Georgia for the Atlanta Area. On September 3, 2010, a letter announcing this determination was sent to the Governor of Georgia, effectively stopping the sanctions clocks started on November 27, 2009, by “a finding of failure to submit” the 1997 PM2.5 nonattainment submittals for the Atlanta Area. Today's notice is simply an announcement of a determination that EPA has already made.

ADDRESSES: EPA has established a docket for this action under Docket Identification No. EPA-R04-OAR-2010-0604. All documents in the docket are listed on the www.regulations.gov Web site. Although listed in the index, some information is not publicly available, i.e., Confidential Business Information or other information whose disclosure is restricted by statute. Certain other material, such as copyrighted material, is not placed on the Internet and will be publicly available only in hard copy form. Publicly available docket materials are available either electronically through www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m., excluding federal holidays.

FOR FURTHER INFORMATION CONTACT: Joel Huey or Sara Waterson, Regulatory Development Section, Air Planning Branch, Air, Pesticides and Toxics Management Division, U.S. Environmental Protection Agency, Region 4, 61 Forsyth Street, SW., Atlanta, Georgia 30303-8960. The telephone number is (404) 562-9104. Mr. Huey can also be reached via electronic mail at huey.joel@epa.gov. Ms. Waterson may be reached by phone at (404) 562-9061 or via electronic mail at waterson.sara@epa.gov.

SUPPLEMENTARY INFORMATION: Effective April 5, 2005, the Atlanta Area was designated nonattainment for the 1997 PM2.5 NAAQS. The Atlanta Area is comprised of Barrow, Bartow, Carroll, Cherokee, Clayton, Cobb, Coweta, DeKalb, Douglas, Fayette, Forsyth, Fulton, Gwinnett, Hall, Henry, Newton, Paulding, Rockdale, Spalding, and Walton Counties and portions of Heard and Putnam Counties. For the 1997 PM2.5 NAAQS, the State of Georgia was required to submit nonattainment area submittals by April 5, 2008. On November 27, 2009, EPA published a finding of failure to submit final rulemaking for the required SIPs (74 FR 62251).

On July 6, 2010, Georgia submitted all components for the nonattainment area submittals for the Atlanta Area. EPA has done a completeness review, in accordance with Section 2.0 “Criteria” of Appendix V of 40 CFR part 51—Criteria for Determining the Completeness of Plan Submissions, to ensure that the State has submitted all of the required information for the SIP submission.

As explained in the letter sent by EPA to the Governor of Georgia, on September 3, 2010, EPA has determined that the State has corrected the deficiency identified in EPA's promulgated finding of failure to submit the required nonattainment area SIP submittals for the Atlanta Area. Specifically, EPA has determined that Georgia has submitted complete SIP submittals for the Atlanta Area to meet the CAA requirement for a nonattainment area under the 1997 PM2.5 NAAQS. EPA will make a determination on the approvability of the nonattainment area submittals for the Atlanta Area in a separate action. Today's announcement only relates to a completeness determination for the nonattainment area submittals for the Atlanta Area, and is separate from EPA's determination of approvability of these submittals. Today's action is simply a notice of a determination that EPA already made through correspondence with the Governor of Georgia.

Authority: 42 U.S.C. 7401 et seq.

Dated: September 28, 2010.
Gwendolyn Keyes Fleming,
Regional Administrator, Region 4.

[FR Doc. 2010-25465 Filed 10-7-10; 8:45 am]

BILLING CODE 6560-50-P